DEPARTMENT OF THE TREASURY

Office of the Secretary

31 CFR Part 1

Freedom of Information Act, Privacy Act of 1974; Implementation

AGENCY: Department of the Treasury.

ACTION: Final rule; correcting amendment.

SUMMARY: On January 6, 2010, the Department of the Treasury published a document in the Federal Register, amending the Department of the Treasury's regulations on the disclosure of records under the Freedom of Information Act (FOIA) and its regulations concerning the Privacy Act of 1974 (Privacy Act). It also amended the appendices to these subparts setting forth the administrative procedures by which the Special Inspector General for the Troubled Asset Relief Program (“SIGTARP”) will process requests for records made under the FOIA, and set forth the administrative procedures by which SIGTARP will implement the Privacy Act. In addition, that document revised the list of Treasury offices and bureaus found this part.

The Department of the Treasury is publishing this document to make correcting amendments to correct errors made in that document.

DATES: Effective Date: June 28, 2010.

FOR FURTHER INFORMATION CONTACT: Dale Underwood, Privacy Act Officer, Department of the Treasury, phone number 202-622-0874 or dale.underwood@do.treas.gov.

SUPPLEMENTARY INFORMATION: The final rule published on January 6, 2010, was for the purpose of updating the list of Treasury bureaus and offices enumerated in 31 CFR 1.1 and 1.20, and conform the regulations with the organization of the Department as set out in Treasury Order 101-05, “Reporting Relationships and Supervision of Officials, Offices and Bureaus, Delegation of Certain Authority, and Order of Succession in the Department of the Treasury” dated February 19, 2008. The description of the revisions made to § 1.20 of this part were not clear resulting in redundant paragraphs at the end of that section.

In FR Doc. E9-31150 appearing in column 3 on page 745 in the Federal Register of Wednesday, January 6, 2010, a number of errors were made. This document amends 31 CFR 1.20 to correct those errors.

List of Subjects in 31 CFR Part 1

Freedom of Information; Privacy.

Accordingly, part 1 of title 31 of the Code of Federal Regulations is corrected by making the following correcting amendments:

PART 1—DISCLOSURE OF RECORDS

1. The authority citation for part 1 continues to read as follows:

Authority: 5 U.S.C. 301 and 31 U.S.C. 321. Subpart A also is issued under 5 U.S.C. 552, as amended. Subpart C also is issued under 5 U.S.C. 552a.

Subpart C—[Amended]

2. Section 1.20 is amended as follows:

a. Revise paragraph (j).

b. Remove paragraphs (k) through (m).

c. Revise the first sentence of the undesignated paragraph at the end of the section.

The revisions read as follows:

§ 1.20 Purpose and scope of regulation.

* * * * *

(j) Financial Crimes Enforcement Network.

* * * * *

For purposes of this subpart, the office of the legal counsel for the components listed in paragraphs (a)(23), (a)(24), (a)(25), (b) through (j) of this section are to be considered a part of such components. * * *

* * * * *

Dated: June 21, 2010.
Melissa Hartman,
Acting Deputy Assistant Secretary for Privacy, Transparency, and Records.

[FR Doc. 2010-15369 Filed 6-25-10; 8:45 am]

BILLING CODE 4810-25-P